NATIONAL AERONAUTICS AND SPACE ADMINISTRATION

[Notice 02-026]

Notice of prospective patent and copyright license

AGENCY: National Aeronautics and Space Administration.

ACTION: Notice of prospective patent license.

SUMMARY: NASA hereby gives notice that Williams Electrical Systems Company of Greensboro, North Carolina, has applied for an exclusive patent license to practice the invention disclosed in NASA Case No. KSC-12035, entitled “Single Station System and Method of Locating Lightning Strikes,” for which a patent application was filed and assigned to the United States of America as represented by the Administrator of the National Aeronautics and Space Administration. Written objections to the prospective grant of a license should be sent to Randall M. Heald, Assistant Chief Counsel/Patent Counsel, and John F. Kennedy Space Center.

DATES: Responses to this notice must be received by March 4, 2002.

FOR FURTHER INFORMATION CONTACT: Randall M. Heald, Assistant Chief Counsel/Patent Counsel, John F. Kennedy Space Center, Mail Code CC-A, Kennedy Space Center, FL 32899, telephone (321) 867-7214.

Dated: February 8, 2002.
Robert M. Stephens,
Deputy General Counsel.

[FR Doc. 02-3687 Filed 2-14-02; 8:45 am]

BILLING CODE 7510-01-P